TENNESSEE VALLEY AUTHORITY

[Meeting No. 11-04]

Sunshine Act Meeting Notice

November 17, 2011.

The TVA Board of Directors will hold a public meeting on November 17, 2011, at the Hunter Henry Center, One Hunter Henry Boulevard, Mississippi State University, Mississippi. The public may comment on any agenda item or subject at a public listening session which begins at 9 a.m. (CT). Following the end of the public listening session, the meeting will be called to order to consider the agenda items listed below. On-site registration will be available until 15 minutes before the public listening session begins at 9 a.m. (CT). Pre-registered speakers will address the Board first. TVA management will answer questions from the news media following the Board meeting.

Status: Open.

Agenda

Chairman's Welcome.

Old Business

Approval of minutes of August 18, 2011, Board Meeting.

New Business

1. Report from President and CEO (including Financial Report from CFO).

2. Report of the Customer and External Relations Committee.

A. Green Power Providers Program.

3. Report of the Finance, Rates, and Portfolio Committee.

A. Off-Peak Pricing Product Overlay.

B. Section 13 Tax Equivalent Payments.

C. John Sevier Combined Cycle Plant Service Agreement.

4. Report of the Nuclear Oversight Committee.

5. Report of the Audit, Risk, and Regulation Committee.

A. Distributor Regulation Policy.

B. Selection of TVA's External Auditor for Fiscal Year 2012.

6. Report of the People and Performance Committee.

A. 2011 Performance Report.

B. Future Performance Goals.

C. Compensation and Incentive Plans.

7. Board Governance.

A. Committee Appointments and Transition Planning.

B. Amendments to TVA Board Practices.

8. Recognition of departing Directors.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 10, 2011.
Ralph E. Rodgers,
General Counsel and Secretary.

[FR Doc. 2011-29685 Filed 11-14-11; 11:15 am]

BILLING CODE 8120-08-P